FEDERAL MARITIME COMMISSION

[Docket No. 13—04]

Streak Products, Inc. v. UTi, United States, Inc.; Notice of Filing of Complaint and Assignment

Notice is given that a complaint has been filed with the Federal Maritime Commission (Commission) by Streak Products, Inc. (“Streak”), hereinafter “Complainant,” against UTi, United States, Inc. (“UTi”), hereinafter “Respondent.” Complainant states that it is a Delaware Corporation and manufacturer of computer storage devices. Complainant alleges that Respondent is an FMC licensed NVOCC with its primary place of business in Long Beach, CA.

Complainant alleges that Respondent “has overcharged it by billing amounts in excess of lawful tariff from 2003 until present,” and therefore, has violated 46 U.S.C. 41104(2). Complainant also alleges that “UTi engaged in an unfair or unjustly discriminatory practice in violation of 46 U.S.C. 41104(4) by charging Streak rates greater than those it charged other shippers,” and that “UTi violated 46 U.S.C. 40501 by failing to keep open to public inspection in its tariff system, tariffs showing all its rates, charges, classifications, rules and practices between all points or ports on its own route and on any through transportation route that has been established.”

Complainant requests that the Commission issue the following relief: “(1) an order be entered commanding UTi to pay Streak reparations for violations of the Shipping Act, plus interest, costs, and attorneys' fees [sic] any other damages to be determined; and (2) that such other and further relief be granted as the Commission determines to be proper, fair and just in the circumstances.”

The full text of the complaint can be found in the Commission's Electronic Reading Room at www.fmc.gov/13-04.

This proceeding has been assigned to the Office of Administrative Law Judges. The initial decision of the presiding officer in this proceeding shall be issued by April 18, 2014 and the final decision of the Commission shall be issued by August 18, 2014.

Karen V. Gregory,
Secretary.

[FR Doc. 2013-09726 Filed 4-23-13; 8:45 am]

BILLING CODE 6730-01-P